NUCLEAR REGULATORY COMMISSION

[Docket No. 50-499]

STP Nuclear Operating Company; Notice of Withdrawal of Application for Amendment to Facility Operating License

The U.S. Nuclear Regulatory Commission (the Commission) has granted the request of STP Nuclear Operating Company acting on behalf of itself and for Texas Genco, LP, the City Public Service Board of San Antonio (CPS), AEP Texas Central Company, and the City of Austin, Texas, (the licensee) to withdraw its March 4, 2004, application for proposed amendment to Facility Operating License No. NPF-80 for the South Texas Project (STP), Unit 2, located in Matagorda County, Texas.

The proposed amendment would have revised the Technical Specifications to allow STP, Unit 2 to change modes with standby diesel generator 22 inoperable.

The Commission had previously issued a Notice of Consideration of Issuance of Amendment published in the Federal Register on March 23, 2004 (69 FR 13596). However, by letter dated April 29, 2004, the licensee withdrew the proposed change.

For further details with respect to this action, see the application for amendment dated March 4, 2004, and the licensee's letter dated April 29, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209 or 301-415-4737 or by e-mail to pdr@nrc.gov.

Dated at Rockville, Maryland, this 5th day of May 2004.
For the Nuclear Regulatory Commission.
Michael Webb,
Senior Project Manager, Section 1, Project Directorate IV, Division of Licensing Project Management, Office of Nuclear Reactor Regulation.

[FR Doc. 04-10735 Filed 5-11-04; 8:45 am]

BILLING CODE 7590-01-P